GOVERNMENT ACCOUNTABILITY OFFICE

Request for Health Information Technology Policy Committee Nominations

AGENCY: Government Accountability Office (GAO).

ACTION: Request for letters of nomination and resumes.

SUMMARY: The American Recovery and Reinvestment Act of 2009 (ARRA) established the Health Information Technology Policy Committee (HIT Policy Committee) and gave the Comptroller General responsibility for appointing 13 of its 20 members. As a result of terms ending in April 2016, GAO is accepting nominations of individuals for three openings on the committee in the following categories of representation or expertise required in ARRA: Advocate for patients or consumers, representative of a health plan or third party payer, and representative of purchasers or employers. For appointments to the HIT Policy Committee to be made in April 2016 in these categories, I am announcing the following: Letters of nomination and resumes should be submitted by March 2, 2016 to ensure adequate opportunity for review and consideration of nominees. Acknowledgement of submissions will be provided within one week of submission. Please contact Mary Giffin at (202) 512-3710 if you do not receive an acknowledgment.

ADDRESSES: Email: HITCommittee@gao.gov; Mail: U.S. GAO, Attn: HITPC Appointments, 441 G Street NW., Washington, DC 20548.

FOR FURTHER INFORMATION CONTACT: GAO Office of Public Affairs, (202) 512-4800. 42 U.S.C. § 300jj-12.

Gene L. Dodaro,
Comptroller General of the United States.

[FR Doc. 2016-02009 Filed 2-3-16; 8:45 am]

BILLING CODE 1610-02-M